SECURITIES AND EXCHANGE COMMISSION

[Release No. 34-101440; File No. SR-ICC-2024-005]

Self-Regulatory Organizations; ICE Clear Credit LLC; Notice of Designation of Longer Period for Commission Action on Proposed Rule Change Relating to ICC's Treasury Operations Policies and Procedures

October 25, 2024.

On August 22, 2024, pursuant to Section 19(b) of the Securities Exchange Act of 1934 (“Exchange Act”) ¹ and Rule 19b-4 ² thereunder, ICE Clear Credit LLC (“ICC”), filed with the Securities and Exchange Commission (“Commission”) the proposed rule change SR-ICC-2024-005 to make changes to the ICC Treasury Operations Policies and Procedures (the “Proposed Rule Change”). The Proposed Rule Change was published for public comment in the Federal Register on September 11, 2024.³ The Commission has not received comments regarding the proposal described in the Proposed Rule Change.

¹ 15 U.S.C. 78s(b)(1).

² 17 CFR 240.19b-4.

³ Self-Regulatory Organizations; ICE Clear Credit LLC; Notice of Filing of Proposed Rule Change Relating to ICC's Treasury Operations Policies and Procedures, Exchange Act Release No. 34-100935 (Sept. 5, 2024); 89 FR 73734 (Sept. 11, 2024) (SR-ICC-2024-005) (“Notice”).

Section 19(b)(2) of the Exchange Act ⁴ provides that, within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the Notice is October 26, 2024. The Commission is extending this 45-day time period.

⁴ 15 U.S.C. 78s(b)(2).

In order to provide the Commission with sufficient time to consider the Proposed Rule Change, the Commission finds that it is appropriate to designate a longer period within which to take action on the Proposed Rule Change.

Accordingly, the Commission, pursuant to Section 19(b)(2) of the Exchange Act,⁵ designates December 10, 2024, as the date by which the Commission shall either approve, disapprove, or institute proceedings to determine whether to disapprove proposed rule change SR-ICC-2024-005.

⁵ Id.

For the Commission, by the Division of Trading and Markets, pursuant to delegated authority.⁶
⁶ 17 CFR 200.30-3(a)(31).
J. Matthew DeLesDernier,
Deputy Secretary.

[FR Doc. 2024-25323 Filed 10-30-24; 8:45 am]

BILLING CODE 8011-01-P